DEPARTMENT OF ENERGY

Federal Energy Regulatory Commission

[Docket No. RP04-279-000]

Texas Gas Transmission, LLC; Notice of Tariff Filing

May 5, 2004.

Take notice that on April 30, 2004, Texas Gas Transmission, LLC (Texas Gas), tendered for filing as part of its FERC Gas Tariff, Second Revised Volume No. 1, First Revised Sheet No. 51, and First Revised Sheet No. 56, to be effective May 1, 2004.

Texas Gas states that the purpose of this filing is to submit to the Commission a copy of a fully executed non-conforming Short-Term Firm Transportation Agreement between Texas Gas and AK Steel Corporation, dated April 27, 2004; to add this agreement to the list of non-conforming service agreements in Texas Gas' tariff; to remove from that list those non-conforming service agreements that have terminated; and to remove reference to a terminated negotiated rate agreement from Texas Gas' tariff.

Texas Gas states that copies of the tariff sheets are being mailed to all parties on the official service list in this docket, to Texas Gas' official service list, to Texas Gas' jurisdictional customers, and to interested state commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the e-Filing link.

Linda Mitry,
Acting Secretary.

[FR Doc. E4-1125 Filed 5-12-04; 8:45 am]

BILLING CODE 6717-01-P